ENVIRONMENTAL PROTECTION AGENCY

40 CFR Part 282

[FRL-6976-5]

Underground Storage Tank Program: Approved State Program for North Carolina

AGENCY: Environmental Protection Agency (EPA).

ACTION: Immediate final rule.

SUMMARY: The Resource Conservation and Recovery Act (RCRA) of 1976, as amended, authorizes the Environmental Protection Agency (EPA) to grant approval to states to operate their underground storage tank programs in lieu of the Federal program. Part 282 codifies EPA's decision to approve state programs and incorporates by reference those provisions of the state statutes and regulations that will be subject to EPA's inspection and enforcement authorities under sections 9005 and 9006 of RCRA subtitle I and other applicable statutory and regulatory provisions. This rule codifies in part 282 the prior approval of North Carolina's underground storage tank program and incorporates by reference appropriate provisions of the State's statutes and regulations.

DATES: This regulation is effective August 14, 2001, unless EPA publishes a prior Federal Register document withdrawing this immediate final rule. All comments on the codification of North Carolina's underground storage tank program must be received by the close of business July 16, 2001. The incorporation by reference of certain publications listed in the regulations is approved by the Director of the Federal Register, as of August 14, 2001, in accordance with 5 U.S.C. 552(a).

ADDRESSES: Comments may be mailed to Mr. John K. Mason, Chief, Underground Storage Tank Section, U.S. EPA Region 4, Sam Nunn Federal Center, 61 Forsyth Street SW., 15th Floor Tower, Atlanta, Georgia 30303. Comments received by EPA may be inspected in the Underground Storage Tank Section, located at EPA Region 4 Library from 8 a.m. to 4 p.m., Monday through Friday, excluding Federal holidays.

FOR FURTHER INFORMATION CONTACT: Mr. John K. Mason, Chief, Underground Storage Tank Section, U.S. EPA Region 4, Sam Nunn Federal Center, 61 Forsyth Street S.W., Atlanta, Georgia 30303, phone number: (404) 562-9441.

SUPPLEMENTARY INFORMATION:

Background

Section 9004 of the Resource Conservation and Recovery Act (RCRA) of 1976, as amended, 42 U.S.C. 6991c, allows the Environmental Protection Agency (EPA) to approve state underground storage tank programs to operate in the state in lieu of the Federal underground storage tank program. EPA is publishing elsewhere in this issue a Federal Register document announcing its decision to grant approval to North Carolina. Approval is effective on August 14, 2001.

EPA codifies its approval of state programs in 40 CFR part 282 and incorporates by reference therein the state statutes and regulations that will be subject to EPA's inspection and enforcement authorities under sections 9005 and 9006 of subtitle I of RCRA, 42 U.S.C. 6991d and 6991e, and other applicable statutory and regulatory provisions. Today's rulemaking codifies EPA's approval of North Carolina's underground storage tank program. This codification reflects the state program in effect at the time EPA granted North Carolina approval under section 9004(a), 42 U.S.C. 6991c(a) for its underground storage tank program. Notice and opportunity for comment were provided earlier on the Agency's decision to approve the North Carolina program, and EPA is not now reopening that decision nor requesting comment on it.

This effort provides clear notice to the public of the scope of the approved program in each state. By codifying the approved North Carolina program and by amending the Code of Federal Regulations whenever a new or different set of requirements is approved in North Carolina, the status of Federally approved requirements of the North Carolina program will be readily discernible.

To codify EPA's approval of North Carolina's underground storage tank program, EPA has added section 282.83 to title 40 of the CFR. Section 282.83 incorporates by reference for enforcement purposes the State's statutes and regulations. Section 282.83 also references the Attorney General's Statement, Demonstration of Adequate Enforcement Procedures, the Program Description, and the Memorandum of Agreement, which are approved as part of the underground storage tank program under subtitle I of RCRA.

The Agency retains the authority under sections 9005 and 9006 of subtitle I of RCRA, 42 U.S.C. 6991d and 6991e, and other applicable statutory and regulatory provisions to undertake inspections and enforcement actions in approved states. With respect to such an enforcement action, the Agency will rely on Federal sanctions, Federal inspection authorities, and Federal procedures rather than the state authorized analogues to these provisions. Therefore, the approved North Carolina enforcement authorities will not be incorporated by reference. Section 282.83 lists those approved North Carolina authorities that would fall into this category.

The public also needs to be aware that some provisions of the State's underground storage tank program are not part of the Federally approved state program. These non-approved provisions are not part of the RCRA subtitle I program because they are “broader in scope” than subtitle I of RCRA. See 40 CFR 281.12(a)(3)(ii). As a result, state provisions which are “broader in scope” than the Federal program are not incorporated by reference for purposes of enforcement in part 282. Section 282.83 of the codification simply lists for reference and clarity the North Carolina statutory and regulatory provisions which are “broader in scope” than the Federal program and which are not, therefore, part of the approved program being codified today. “Broader in scope” provisions cannot be enforced by EPA; the State, however, will continue to enforce such provisions.

Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's rule contains no Federal mandates (under the regulatory provisions of Title II of the UMRA) for State, local or tribal governments or the private sector. It does not impose new or additional enforceable duties on any State, local or tribal governments or the private sector. This rule merely incorporates by reference certain existing State underground storage tank program requirements which EPA previously approved and with which regulated entities must already comply. Further, the UMRA generally excludes from the definition of “Federal intergovernmental mandate” duties that arise from participation in a voluntary Federal program. The requirements being codified today are the result of North Carolina's voluntary participation in EPA's state program approval process under RCRA Subtitle I. Thus, today's rule is not subject to the requirements of sections 202 and 205 of the UMRA.

In addition, EPA has determined that this rule contains no regulatory requirements that might significantly or uniquely affect small governments. Although small governments may own and/or operate underground storage tanks, this codification incorporates into the CFR North Carolina's underground storage tank program requirements which EPA already approved under 40 CFR Part 281. Small governments are not subject to any additional significant or unique requirements by virtue of this action. Thus, the requirements of section 203 of the UMRA also do not apply to today's rule.

Regulatory Flexibility Act (RFA) (as Amended by the Small Business Regulatory Enforcement Fairness Act of 1996 (SBREFA), 5 U.S.C. 601 et seq.)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's action on small entities, small entity is defined as: (1) A small business as specified in the Small Business Administration regulations; (2) a small governmental jurisdiction that is a government of a city, county, town, school district or special district with a population of less than 50,000; and (3) a small organization that is any not-for-profit enterprise which is independently owned and operated and is not dominant in its field.

After considering the economic impacts of this action on small entities, I certify that this action will not have a significant economic impact on a substantial number of small entities. This action does not impose any new requirements on small entities because small entities that own and/or operate underground storage tanks are already subject to the State underground storage tank program requirements which EPA is now incorporating by reference.

Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives and the Comptroller General of the United States prior to publication of the rule in today's Federal Register. This rule is not a “major rule” as defined by 5 U.S.C. 804(2).

Compliance With Executive Order 12866

The Office of Management and Budget has exempted this rule from the requirements of Executive Order 12866.

Compliance With Executive Order 13045 (Children's Health)

Executive Order 13045, “Protection of Children from Environmental Health Risks and Safety Risks,” applies to any rule that: (1) The Office of Management and Budget determines is “economically significant” as defined under Executive Order 12866, and (2) concerns an environmental health or safety risk that EPA has reason to believe may have a disproportionate effect on children. If the regulatory action meets both criteria, the Agency must evaluate the environmental health or safety effects of the planned rule on children and explain why the planned regulation is preferable to other potentially effective and reasonably feasible alternatives considered by the Agency.

This rule is not subject to Executive Order 13045 because it is not an economically significant rule as defined by Executive Order 12866, and because it does not involve decisions based on environmental health or safety risks.

Compliance With Executive Order 13175 (Consultation and Coordination With Indian Tribal Governments)

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. This rule is not subject to Executive Order 13175 because it does not significantly or uniquely affect the communities of Indian tribal governments. This rule merely incorporates by reference the North Carolina underground storage tank program requirements that EPA has already approved. North Carolina is not approved to implement the RCRA underground storage tank program in Indian country. This action has no effect on the underground storage tank program that EPA implements in the Indian country within the State. Thus, Executive Order 13175 does not apply to this rule.

Compliance With Executive Order 13132 (Federalism)

Executive Order 13132, entitled “Federalism” (64 FR 43255, August 10, 1999), requires EPA to develop an accountable process to ensure “meaningful and timely input by State and local officials in the development of regulatory policies that have Federalism implications.” “Policies that have Federalism implications” is defined in the Executive Order to include regulations that have “substantial direct effects on the States, on the relationship between the national government and the States, or on the distribution of power and responsibilities among the various levels of government.”

Under section 6 of Executive Order 13132, EPA may not issue a regulation that has Federalism implications, that imposes substantial direct compliance costs, and that is not required by statute, unless the Federal government provides the funds necessary to pay the direct compliance costs incurred by State and local governments, or EPA consults with State and local officials early in the process of developing the proposed regulation. EPA also may not issue a regulation that has Federalism implications and that preempts State law unless the Agency consults with State and local officials early in the process of developing the proposed regulation.

This action does not have Federalism implications. It will not have a substantial direct effect on States, on the relationship between the national government and the States, or on the distribution of power and responsibilities among the various levels of government, as specified in Executive Order 13132, because it affects only one State. Further, this action simply incorporates by reference the State's already approved underground storage tank program requirements. Thus, the requirements of section 6 of the Executive Order do not apply.

National Technology Transfer and Advancement Act

Section 12(d) of the National Technology Transfer and Advancement Act of 1995 (“NTTAA”), Public Law 104-113, directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This action does not involve technical standards. Therefore, EPA did not consider the use of any voluntary consensus standards.

Paperwork Reduction Act

Under the Paperwork Reduction Act, 44 U.S.C. 3501 et seq., Federal agencies must consider the paperwork burden imposed by any information request contained in a proposed or final rule. This rule will not impose any information requirements upon the regulated community.

List of Subjects in 40 CFR Part 282

Environmental protection, Hazardous substances, Incorporation by reference, Intergovernmental relations, State program approval, Underground storage tanks, Water pollution control.

Dated: April 26, 2001.
A. Stanley Meiburg,
Acting Regional Administrator, Region 4.

For the reasons set forth in the preamble, 40 CFR Part 282 is amended as follows:

PART 282—APPROVED UNDERGROUND STORAGE TANK PROGRAMS

1. The authority citation for part 282 continues to read as follows:

Authority: 42 U.S.C. 6912, 6991c, 6991d, and 6991e.

Subpart B—Approved State Programs

2. Subpart B is amended by adding § 282.83 to read as follows:

§ 282.83 North Carolina State-Administered Program.

(a) The State of North Carolina is approved to administer and enforce an underground storage tank program in lieu of the Federal program under subtitle I of the Resource Conservation and Recovery Act of 1976 (RCRA), as amended, 42 U.S.C. 6991 et seq. The State's program, as administered by the North Carolina Department of Environment and Natural Resources, Division of Waste Management, UST Section, was approved by EPA pursuant to 42 U.S.C. 6991c and part 281 of this chapter. EPA approved the North Carolina program on April 26, 2001 with an effective date of August 14, 2001.

(b) North Carolina has primary responsibility for enforcing its underground storage tank program. However, EPA retains the authority to exercise its inspection and enforcement authorities under sections 9005 and 9006 of subtitle I of RCRA, 42 U.S.C. 6991d and 6991e, as well as under other statutory and regulatory provisions.

(c) To retain program approval, North Carolina must revise its approved program to adopt new changes to the Federal subtitle I program which make it more stringent, in accordance with section 9004 of RCRA, 42 U.S.C. 6991c, and 40 CFR part 281, subpart E. If North Carolina obtains approval for the revised requirements pursuant to section 9004 of RCRA, 42 U.S.C. 6991c, the newly approved statutory and regulatory provisions will be added to this subpart and notice of any change will be published in the Federal Register.

(d) North Carolina has final approval for the following elements submitted to EPA in the State's program application for final approval and approved by EPA on April 26, 2001. Copies may be obtained from the North Carolina Department of Environment and Natural Resources, Division of Waste Management, UST Section, 2728 Capital Blvd., Raleigh, NC 27604.

(1) State statutes and regulations. (i) The provisions cited in this paragraph are incorporated by reference as part of the underground storage tank program under subtitle I of RCRA, 42 U.S.C. 6991 et seq.

(A) North Carolina Statutory Requirements Applicable to the Underground Storage Tank Program, 1997.

(B) North Carolina Regulatory Requirements Applicable to the Underground Storage Tank Program, 1997 and 1998.

(ii) The following statutes and regulations are part of the approved state program, although not incorporated by reference herein for enforcement purposes.

(A) The statutory provisions include:

(1) General Statutes of North Carolina, Chapter 143—State Departments, Institutions, and Commissions; Article 21, Water and Air Resources

§ 143-215.6A Enforcement procedures: civil penalties

§ 143-215.6B Enforcement procedures: criminal penalties

§ 143-215.6C Enforcement procedures: injunctive relief

(2) General Statutes of North Carolina, Chapter 143—State Departments, Institutions, and Commissions; Article 21A, Oil Pollution and Hazardous Substances Control

§ 143-215.79 Inspections and investigations; entry upon property

§ 143-215.88A Enforcement procedures: civil penalties

§ 143-215.88B Enforcement procedures: criminal penalties

§ 143-215.91A Limited liability for volunteers in oil and hazardous substance abatement

§ 143-215.94 Joint and several liability

§ 143-215.94F Limited amnesty

§ 143-215.94G Authority of the Department to engage in cleanups; actions for fund reimbursement (Insofar as (e) outlines enforcement authorities.)

§ 143-215.94K Enforcement

§ 143-215.94W Enforcement procedures: civil penalties

§ 143-215.94Y Enforcement procedures: criminal penalties

§ 143-215.94Z Enforcement procedures: injunctive relief

(3) General Statutes of North Carolina, Chapter 143B—Executive Organization Act of 1973

§ 143B-282 Environmental Management Commission—Creation; powers and duties

§ 143B-282.1 Environmental Management Commission—quasi-judicial powers; procedures

(4) General Statutes of North Carolina, Chapter 150B—Administrative Procedure Act

§ 150B-23 Commencement; assignment of administrative law judge; hearing required; notice; intervention

(5) General Statutes of North Carolina, Chapter 1A—Rules of Civil Procedure

Rule 24 Intervention

(B) The regulatory provisions include:

(1) North Carolina Administrative Code, Title 15A—Department of Environment and Natural Resources; Chapter 2, Subchapter 2N, Underground Storage Tanks

Section .0100 General Considerations (Insofar as .0101(c) provides inspection and enforcement authority.)

(2) North Carolina Administrative Code, Title 15A—Department of Environment and Natural Resources; Chapter 2, Subchapter 2O: Financial Responsibility Requirements for Owners and Operators of Underground Storage Tanks

Section .0100 General Considerations (Insofar as .0101(c) provides inspection and enforcement authority.)

(3) North Carolina Administrative Code, Title 15A—Department of Environment and Natural Resources; Chapter 2, Subchapter 2P: Leaking Petroleum Underground Storage Tank Cleanup Funds

Section .0100 General Considerations (Insofar as .0101(d) provides inspection and enforcement authority.)

(iii) The following statutory and regulatory provisions are broader in scope than the Federal program, are not part of the approved program, and are not incorporated by reference herein for enforcement purposes.

(A) The statutory provisions include:

(1) General Statutes of North Carolina, Chapter 143—State Departments, Institutions, and Commissions; Article 21A, Oil Pollution and Hazardous Substances Control

§ 143-215.83 Discharges (Insofar as (c) addresses permit requirements.)

§ 143-215.92 Lien on vessel (Insofar as it addresses vessels, which are not regulated by the Federal program.)

§ 143-215.94A Definitions (Insofar as .94A(2) subjects certain heating oil tanks and the piping connected to otherwise excluded tanks to the regulatory requirements.)

§ 143-215.94C Commercial leaking petroleum underground storage tank cleanup fees (Insofar as it establishes annual operating fees.)

§ 143-215.94U Registration of petroleum commercial underground storage tanks; operation of petroleum underground storage tanks; operating permit required (Insofar as it requires owners and operators to obtain operating permits and pay operating fees for their tanks, and imposes requirements on individuals other than UST owners and operators.)

(B) The regulatory provisions include:

(1) North Carolina Administrative Code, Title 15A—Department of Environment and Natural Resources; Chapter 2, Subchapter 2N, Underground Storage Tanks

Section .0200 Program Scope and Interim Prohibition (Insofar as .0201 subjects USTs containing de minimis concentrations of regulated substances to closure requirements)

Section .0800 Out-of-Service UST Systems and Closure Insofar as .0802 subjects USTs containing de minimis concentrations of regulated substances to closure requirements)

(2) North Carolina Administrative Code, Title 15A—Department of Environment and Natural Resources; Chapter 2, Subchapter 2O: Financial Responsibility Requirements for Owners and Operators of Underground Storage Tanks

Section .0200 Program Scope (Insofar as .0203(b)(1) defines “annual operating fee”)

Section .0400 Responsibilities of Owners and Operators (Insofar as .0402(b)(2) addresses annual operating fee requirements.)

(3) North Carolina Administrative Code, Title 15A—Department of Environment and Natural Resources; Chapter 2, Subchapter 2P: Leaking Petroleum Underground Storage Tank Cleanup Funds

Section .0200 Program Scope (Insofar as .0201(a) and (b) and .0202 (b)(1) relate to annual operating fees.)

Section .0300 Annual Operating Fees (Insofar as .0301 sets forth annual operating fee requirements.)

Section .0400 Reimbursement Procedure (Insofar as .0401(b) relates to annual operating fees.)

(2) Statement of legal authority. (i) “Attorney General's Statement for Final Approval”, signed by the State Attorney General on January 5, 1998, though not incorporated by reference, is referenced as part of the approved underground storage tank program under subtitle I of RCRA, 42 U.S.C. 6991 et seq.

(ii) Letter from the Attorney General of North Carolina to EPA, August 11, 1998, though not incorporated by reference, is referenced as part of the approved underground storage tank program under subtitle I of RCRA, 42 U.S.C. 6991 et seq.

(iii) Letter from the Attorney General of North Carolina to EPA, September 24, 1998, though not incorporated by reference, is referenced as part of the approved underground storage tank program under subtitle I of RCRA, 42 U.S.C. 6991 et seq.

(3) Demonstration of procedures for adequate enforcement. The “Demonstration of Procedures for Adequate Enforcement” submitted as part of the original application on December 19, 1997, though not incorporated by reference, is referenced as part of the approved underground storage tank program under subtitle I of RCRA, 42 U.S.C. 6991 et seq.

(4) Program Description. The program description and any other material submitted as part of the original application on December 19, 1997, though not incorporated by reference, are referenced as part of the approved underground storage tank program under subtitle I of RCRA, 42 U.S.C. 6991 et seq.

(5) Memorandum of Agreement. The Memorandum of Agreement between EPA Region 4 and the North Carolina Department of Environment and Natural Resources, Division of Waste Management, UST Section, signed by the EPA Regional Administrator on July 29, 1999, though not incorporated by reference, is referenced as part of the approved underground storage tank program under subtitle I of RCRA, 42 U.S.C. 6991 et seq.

3. Appendix A to Part 282 is amended by adding in alphabetical order “North Carolina” and its listing.

Appendix A to Part 282—State Requirements Incorporated by Reference in Part 282 of the Code of Federal Regulations

* * * * *

North Carolina

(a) The statutory provisions include:

General Statutes of North Carolina, Chapter 143—State Departments, Institutions, and Commissions; Article 21A, Oil Pollution and Hazardous Substances Control

§ 143-215.75 Title

§ 143-215.76 Purpose

§ 143-215.77 Definitions

§ 143-215.77A Designation of hazardous substances and determination of quantities which may be harmful

§ 143-215.78 Oil pollution control program

§ 143-215.80 Confidential information

§ 143-215.81 Authority supplemental

§ 143-215.82 Local ordinances

§ 143-215.83 Discharges (Except insofar as (c) addresses permit requirements.)

§ 143-215.84 Removal of prohibited discharges

§ 143-215.85 Required notice

§ 143-215.86 Other State agencies and State-designated local agencies

§ 143-215.87 Oil or Other Hazardous Substances Pollution Protection Fund

§ 143-215.88 Payment to State agencies or State-designated local agencies

§ 143-215.89 Multiple liability for necessary expenses

§ 143-215.90 Liability for damage to public resources

§ 143-215.93 Liability for damage caused

§ 143-215.93A Limitation on liability of persons engaged in removal of oil discharges

§ 143-215.94A Definitions (Except insofar as .94A(2) subjects certain heating oil tanks and the piping connected to otherwise excluded tanks to the regulatory requirements.)

§ 143-215.94B Commercial Leaking Petroleum Underground Storage Tank Cleanup Fund

§ 143-215.94D Noncommercial Leaking Petroleum Underground Storage Tank Cleanup Fund

§ 143-215.94E Rights and obligations of the owner and operator

§ 143-215.94G Authority of the Department to engage in cleanups; actions for fund reimbursement (Except insofar as (e) outlines enforcement authorities.)

§ 143-215.94H Financial responsibility

§ 143-215.94I Insurance pools authorized; requirements

§ 143-215.94J Limitation of liability of the State of North Carolina

§ 143-215.94L Adoption of rules; administrative procedure; short title; miscellaneous provisions

§ 143-215.94M Reports

§ 143-215.94N Applicability

§ 143-215.94O Petroleum Underground Storage Tank Funds Council

§ 143-215.94P Groundwater Protection Loan Fund

§ 143-215.94T Adoption and implementation of regulatory program

§ 143-215.94V Standards for petroleum underground storage tank cleanup

(b) The regulatory provisions include:

North Carolina Administrative Code, Title 15A—Department of Environment and Natural Resources; Chapter 2, Subchapter 2L: Groundwater Classification and Standards

1. Section .0100 General Considerations

.0101 Authorization

.0102 Definitions

.0103 Policy

.0104 Restricted Designation (RS)

.0105 Adoption by Reference (Repealed)

.0106 Corrective Action

.0107 Compliance Boundary

.0108 Review Boundary

.0109 Delegation

.0110 Monitoring

.0111 Reports

.0112 Analytical Procedures

.0113 Variance

.0114 Notification Requirements

.0115 Risk-Based Assessment and Corrective Action for Petroleum Underground Storage Tanks

2. Section .0200 Classifications and Groundwater Quality Standards

.0201 Groundwater Classifications

.0202 Groundwater Quality Standards

3. Section .0300 Assignment of Underground Water Classifications

.0301 Classifications: General

.0302 Statewide

.0303 Broad River Basin

.0304 Cape Fear River Basin

.0305 Catawba River Basin

.0306 Chowan River Basin

.0307 French Broad River Basin

.0308 Hiwassee River Basin

.0309 Little Tennessee River Basin

.0310 Savannah River Basin

.0311 Lumber River Basin

.0312 Neuse River Basin

.0313 New-Watauga River Basin

.0314 Pasquotank River Basin

.0315 Roanoke River Basin

.0316 Tar Pamlico River Basin

.0317 White Oak River Basin

.0318 Yadkin-Pee Dee River Basin

.0319 Reclassification

North Carolina Administrative Code, Title 15A—Department of Environment and Natural Resources; Chapter 2, Subchapter 2N, Underground Storage Tanks

1. Section .0100 General Provisions

.0101 General (Except insofar as .0101(c) provides inspection and enforcement authority.)

.0102 Copies of referenced Federal regulations

.0103 Adoption by reference updates

.0104 Identification of tanks

2. Section .0200 Program Scope and Interim Prohibition

.0201 Applicability (Except insofar as it subjects USTs containing de minimis concentrations of regulated substances to closure requirements)

.0202 Interim prohibition for deferred UST systems

.0203 Definitions

3. Section .0300 UST Systems: Design, Construction, Installation, and Notification

.0301 Performance standards for new UST systems

.0302 Upgrading of existing UST systems

.0303 Notification requirements

4. Section .0400 General Operating Requirements

.0401 Spill and overfill control

.0402 Operation and maintenance of corrosion protection

.0403 Compatibility

.0404 Repairs allowed

.0405 Reporting and recordkeeping

5. Section .0500 Release Detection

.0501 General requirements for all UST systems

.0502 Requirements for petroleum UST systems

.0503 Requirements for hazardous substance UST systems

.0504 Methods of release detection for tanks

.0505 Methods of release detection for piping

.0506 Release detection recordkeeping

6. Section .0600 Release Reporting, Investigation, and Confirmation

.0601 Reporting of suspected releases

.0602 Investigation due to off-site impacts

.0603 Release investigation and confirmation steps

.0604 Reporting and cleanup of spills and overfills

7. Section .0700 Release Response and Corrective Action for UST Systems Containing Petroleum or Hazardous Substances

.0701 General

.0702 Initial response

.0703 Initial abatement measures and site check

.0704 Initial site characterization

.0705 Free product removal

.0706 Investigations for soil and ground water cleanup

.0707 Corrective action plan

.0708 Public participation

8. Section .0800 Out-of-Service UST Systems and Closure

.0801 Temporary closure

.0802 Permanent closure and changes-in-service (Except insofar as it subjects USTs containing de minimis concentrations of regulated substances to closure requirements)

.0803 Assessing the site at closure or change-in-service

.0804 Applicability to previously closed UST systems

.0805 Closure records

North Carolina Administrative Code, Title 15A—Department of Environment and Natural Resources; Chapter 2, Subchapter 2O: Financial Responsibility Requirements for Owners and Operators of Underground Storage Tanks

1. Section .0100 General Considerations

.0101 General (Except insofar as .0101(c) provides inspection and enforcement authority.)

.0102 Copies of referenced Federal regulations

.0103 Substituted sections

2. Section .0200 Program Scope

.0201 Applicability

.0202 Compliance dates

.0203 Definitions (Except insofar as (b)(1) defines “annual operating fee”)

.0204 Amount and scope of required financial responsibility

3. Section .0300 Assurance Mechanisms

.0301 Allowable mechanisms and combinations of mechanisms

.0302 Self insurance

.0303 Guarantee

.0304 Insurance and risk retention group coverage

.0305 Surety bond

.0306 Letter of credit

.0307 Standby trust fund

.0308 Insurance pools

.0309 Substitution of financial assurance mechanisms

.0310 Cancellation or nonrenewal by a provider of assurance

4. Section .0400 Responsibilities of Owners and Operators

.0401 Reporting by owner or operator

.0402 Record keeping (Except insofar as (b)(2) addresses annual operating fee requirements.)

5. Section .0500 Changes in Status

.0501 Drawing on financial assurance mechanisms

.0502 Release from the requirements

.0503 Incapacity of owner or operator or provider of assurance

.0504 Replenishment

North Carolina Administrative Code, Title 15A—Department of Environment and Natural Resources; Chapter 2, Subchapter 2P: Leaking Petroleum Underground Storage Tank Cleanup Funds

1. Section .0100 General Considerations

.0101 General (Except insofar as .0101(d) provides inspection and enforcement authority.)

.0102 Copies of rules incorporated by reference

.0103 False or misleading information

2. Section .0200 Program Scope

.0201 Applicability (Except insofar as .0201(a) and (b) relate to annual operating fees.)

.0202 Definitions (Except insofar as .0202 (b)(1) relates to annual operating fees.)

3. Section .0300 Annual Operating Fees

.0302 Notification

4. Section .0400 Reimbursement Procedure

.0401 Eligibility of owner or operator (Except insofar as .0401(b) relates to annual operating fees.)

.0402 Cleanup costs

.0403 Third party claims

.0404 Requests for reimbursement

.0405 Method of reimbursement

.0406 Reimbursement apportionment

.0407 Final action

[FR Doc. 01-14895 Filed 6-14-01; 8:45 am]

BILLING CODE 6560-50-P